DEPARTMENT OF COMMERCE

National Oceanic and Atmospheric Administration

RIN 0648-XK22

Mid-Atlantic Fishery Management Council; Public Meeting

AGENCY: National Marine Fisheries Service (NMFS), National Oceanic and Atmospheric Administration (NOAA), Commerce.

ACTION: Notice of a public meeting.

SUMMARY: The Mid-Atlantic Council's Squid, Mackerel, and Butterfish Committee will hold a public meeting on Amendment 10 to the Atlantic Mackerel, Squid, and Butterfish Fishery Management Plan and if time allows, also on Amendment 11.

DATES: The meeting will be held on Tuesday, September 23, 2008, from 10 a.m. to 6 p.m.

ADDRESSES: The meeting will be held at the Sheraton Newark Airport Hotel, 128 Frontage Road, Newark, NJ 07114; telephone: (973) 690-5500.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purposes of this meeting are: to finalize Amendment 10's butterfish rebuilding and bycatch reduction preferred alternatives; and, if time allows, review progress on Amendment 11 (especially, but not limited to, alternatives dealing with instituting limited access in the mackerel fishery).

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to M. Jan Bryan at the Mid-Atlantic Council Office, (302) 674-2331 extension 18, at least 5 days prior to the meeting date.

Dated: September 2, 2008.
Tracey L. Thompson,
Acting Director, Office of Sustainable Fisheries, National Marine Fisheries Service.

[FR Doc. E8-20605 Filed 9-4-08; 8:45 am]

BILLING CODE 3510-22-S